DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and marine mammals.

DATES: Written data, comments or requests must be received by November 7, 2005.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax (703) 358-2281.

FOR FURTHER INFORMATION CONTACT: Division of Management Authority, telephone (703) 358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (address above).

Applicant: Smithsonian's National Zoological Park, Washington, DC, PRT-700309.

The applicant requests renewal of a permit to take, import, export, re-export and purchase in interstate commerce and foreign commerce blood, hair, and other tissue samples and salvaged carcasses from any endangered or threatened wildlife exotic to the United States for the purpose of scientific research to enhance the survival of the species in the wild. Samples are to be obtained from wild, captive-held or captive-born animals. Samples collected from animals in the wild are to be taken opportunistically during immobilization of the animals by local wildlife management officials or trained veterinarians. Wild animals may be immobilized but not harmed for collection of samples. This notification covers activities to be conducted by the applicant over a five-year period.

Applicant: The Institute of Greatly Endangered and Rare Species (T.I.G.E.R.S), Myrtle Beach, South Carolina, PRT-106401.

The applicant requests a permit to export six male and one female generic tigers (Panthera tigris) to the Samutprakan Crocodile Farm and Zoo in Samutprakan, Thailand for the purpose of display, education, and enhancement of the survival of the species.

Applicant: Susan Mikota, dba Elephant Care International, Waveland, MS, PRT-106773.

The applicant requests a permit to import biological samples collected from Asian elephants (Elephas maximus) in Nepal for the purpose of scientific research (study of tuberculosis) to enhance the survival of the species in the wild.

Applicant: Los Angeles Zoo, Los Angeles, California, PRT-106091.

The applicant requests a permit to import live, captive born peninsular pronghorn juveniles (Antilocapra americana peninsularis) from Reserva de la Biosfera ‘El Vizcaino,’ Mexico for the purpose of recovery and enhancement of the survival of the species in the wild. This notification covers activities to be conducted by the applicant over a five-year period.

Applicant: Feld Entertainment, Vienna, Virginia, PRT-106879.

The applicant requests a permit to export biological samples of Asian elephants (Elephas maximus) to the African Lion Safari, Ontario, Canada for the purpose of breeding and enhancement of the survival of the species. This notification covers activities to be conducted by the applicant over a five-year period.

Applicant: John C.J. Wirth, Dubois, WY, PRT-110976.

The applicant requests a permit to import the sport-hunted trophy of one male bontebok (Damaliscus pygargus pygargus) culled from a captive herd maintained under the management program of the Republic of South Africa, for the purpose of enhancement of the survival of the species.

Applicant: David C. West, Perris, CA, PRT-110435.

The applicant requests a permit to import the sport-hunted trophy of one male bontebok (Damaliscus pygargus pygargus) culled from a captive herd maintained under the management program of the Republic of South Africa, for the purpose of enhancement of the survival of the species.

Applicant: Furman R. Cullum, Charleston, SC, PRT-109615.

The applicant requests a permit to import the sport-hunted trophy of one male bontebok (Damaliscus pygargus pygargus) culled from a captive herd maintained under the management program of the Republic of South Africa, for the purpose of enhancement of the survival of the species.

Applicant: Louis A. Souza, Salinas, CA, PRT-109575.

The applicant requests a permit to import the sport-hunted trophy of one male bontebok (Damaliscus pygargus pygargus) culled from a captive herd maintained under the management program of the Republic of South Africa, for the purpose of enhancement of the survival of the species.

Applicant: Stephen W. Mayes, Franklin, KY, PRT-110014.

The applicant requests a permit to import the sport-hunted trophy of one male bontebok (Damaliscus pygargus pygargus) culled from a captive herd maintained under the management program of the Republic of South Africa, for the purpose of enhancement of the survival of the species.

Applicant: Raymond T. Cuppy, Souderton, PRT-110044.

The applicant requests a permit to import the sport-hunted trophy of one male bontebok (Damaliscus pygargus pygargus) culled from a captive herd maintained under the management program of the Republic of South Africa, for the purpose of enhancement of the survival of the species.

Marine Mammals

The public is invited to comment on the following applications for a permit to conduct certain activities with marine mammals. The applications were submitted to satisfy requirements of the Marine Mammal Protection Act of 1972, as amended (16 U.S.C. 1361 et seq.), and the regulations governing marine mammals (50 CFR part 18). Written data, comments, or requests for copies of the complete applications or requests for a public hearing on these applications should be submitted to the Director (address above). Anyone requesting a hearing should give specific reasons why a hearing would be appropriate. The holding of such a hearing is at the discretion of the Director.

Applicant: James F. Hascup, Ringwood, NJ, PRT-108384.

The applicant requests a permit to import a polar bear (Ursus maritimus) sport hunted from the Northern Beaufort Sea polar bear population in Canada for personal, noncommercial use.

Applicant: Michael J. Vorst, Destin, FL, PRT-110049.

The applicant requests a permit to import a polar bear (Ursus maritimus) sport hunted from the Lancaster Sound polar bear population in Canada for personal, noncommercial use.

Dated: September 30, 2005.
Monica Farris,
Senior Permit Biologist, Branch of Permits, Division of Management Authority.

[FR Doc. 05-20240 Filed 10-6-05; 8:45 am]

BILLING CODE 4310-55-P